DEPARTMENT OF DEFENSE

Office of the Secretary

[Docket ID: DoD-2021-OS-0107]

Submission for OMB Review; Comment Request

AGENCY: Office of the Under Secretary of Defense for Personnel and Readiness, Department of Defense (DoD).

ACTION: 5-Day information collection notice.

SUMMARY: Consistent with the Paperwork Reduction Act of 1995 and its implementing regulations, this document provides notice DoD is submitting an Information Collection Request to the Office of Management and Budget (OMB) to collect information on incident and case management data on problematic sexual behavior between children and youth as required by the John S. McCain National Defense Authorization Act for Fiscal Year 2019, Section 1089, Policy on Response to Juvenile on Juvenile Problematic Sexual Behavior Committed on Military Installations. This statute requires policy development, data collection, and Family Advocacy Program (FAP) involvement through a multi-disciplinary response to problematic sexual behavior in children and youth (PSB-CY) occurring on military installations. More specifically, the legislation requires the data collection to include a description of the incident, whether a multidisciplinary review by the FAP was completed, whether the incident also involved an investigation by law enforcement or other entity, and whether action was taken to support and assist children, youth, and families in response to the incident and a description of any action taken.

DATES: Comments must be received by November 1, 2021.

ADDRESSES: The Department has requested emergency processing from OMB for this information collection request by 5 days after publication of this notice. Interested parties can access the supporting materials and collection instrument as well as submit comments and recommendations to OMB at www.reginfo.gov/public/do/PRAMain. Find this particular information collection by selecting “Currently under 30-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This information collection provides incident and case management data on incidents of problematic sexual behavior between children and youth as required by the John S. McCain National Defense Authorization Act for Fiscal Year 2019 (Pub. L. 115-232), Section 1089, Policy on Response to Juvenile on Juvenile Problematic Sexual Behavior Committed on Military Installations. This statute requires policy development, data collection, and Family Advocacy Program (FAP) involvement through a multi-disciplinary response to problematic sexual behavior in children and youth (PSB-CY) occurring on military installations. The purpose of the collection is to determine eligibility for FAP services and to initiate a case record that will inform and support the development and implementation of well-coordinated safety plans, evidence informed support and intervention services, and referrals to specialized care when needed that meet the complex needs of children, youth, and their families involved in incidents of PSB-CY. The PSB-CY Information System is in the final phase of beta testing in anticipation of production release early October 2021 as specified in the system development contract. The PSB-CY development contract ends 12 November. Approval of the emergency processing will allow deployment of the PSB-CY Information System as programmed and contribute to the Department's ability to respond and intervene with appropriate treatment and services to help military-affiliated children, youth, and their families who have been involved in these incidents. Delay of the information collection presents significant risk for a smooth transition, namely the ability for the new managing contractor to take full advantage of current PSB-CY development contractor expertise and help desk support post go-live. Disrupting the transition carries a significant operational risk to support the operations and sustainment of the PSB-CY application, including the high volume of data. MC&FP planned for the PSB-CY development contractor to provide support as part of the transition plan. If information collection and system go-live is not expedited, this transition support will be unavailable.

Title; Associated Form; and OMB Number: Problematic Sexual Behavior in Children and Youth Information System; OMB Control Number 0704-PSBC.

Type of Request: Emergency.

Number of Respondents: 2,000.

Responses per Respondent: 1.

Annual Responses: 2,000.

Average Burden per Response: 1 hour.

Annual Burden Hours: 2,000 hours.

Affected Public: Individuals or households.

Frequency: On occasion.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: October 19, 2021.
Kayyonne T. Marston,
Alternate OSD Federal Register Liaison Officer, Department of Defense.

[FR Doc. 2021-23120 Filed 10-22-21; 8:45 am]

BILLING CODE 5001-06-P